DEPARTMENT OF TRANSPORTATION

Federal Railroad Administration

[Docket Number FRA-2020-0018]

Petition for Waiver of Compliance

Under part 211 of title 49 Code of Federal Regulations (CFR), this document provides the public notice that on January 30, 2020, Nevada Northern Railway (NN) petitioned the Federal Railroad Administration (FRA) for a waiver of compliance from certain provisions of the Federal railroad safety regulations contained at 49 CFR part 230, Steam Locomotive Inspection and Maintenance Standards. FRA assigned the petition Docket Number FRA-2020-0018.

Specifically, NN requests relief from 49 CFR 230.17, One thousand four hundred seventy-two (1,472) service day inspection, which requires that locomotives be inspected after 1,472 service days or 15 years, whichever occurs first. NN states that Locomotive 40 will be due for its 1,472 service day inspection (SDI) on May 20, 2020, although it has only accrued 795 service days since its last 1,472 SDI. The railroad would like to operate the locomotive through October 20, 2020, which would consist of less than 60 service days. During this period, NN states that it will perform all regularly required maintenance and inspection as otherwise required.

NN is a historical railroad that offers passenger train rides. It is supported by the Nevada Northern Railway Foundation. NN is concerned that if Locomotive 40 must be taken out of service, NN will be left with only one operating steam locomotive for its 2020 season. If that steam engine also cannot run, it will be impossible for NN to operate its schedule of steam-powered excursion trips, which would cause an excessive financial strain on the organization, as locomotive rides are essential to revenue and ridership. Approval of this waiver request would allow NN to finish restoration of another steam locomotive that could take Locomotive 40's place in late 2020, when Locomotive 40 would receive its 1,472 SDI.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by April 13, 2020 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-04141 Filed 2-27-20; 8:45 am]

BILLING CODE 4910-06-P